DEPARTMENT OF COMMERCE

National Oceanic and Atmospheric Administration

[I.D. 080105B]

Endangered Species; File No. 1540

AGENCY: National Marine Fisheries Service (NMFS), National Oceanic and Atmospheric Administration (NOAA), Commerce.

ACTION: Notice; receipt of application.

SUMMARY: Notice is hereby given that the South Carolina Department of Natural Resources, Marine Resources Division, P.O. Box 12559, Charleston, SC 29422-2559, has applied in due form for a permit to take loggerhead (Caretta caretta), Kemp's ridley (Lepidochelys kempii), green (Chelonia mydas), leatherback (Dermochelys coriacea), and hawksbill (Eretmochelys imbricata) sea turtles for purposes of scientific research.

DATES: Written, telefaxed, or e-mail comments must be received on or before September 14, 2005.

ADDRESSES: The application and related documents are available for review upon written request or by appointment in the following office(s):

Permits, Conservation and Education Division, Office of Protected Resources, NMFS, 1315 East-West Highway, Silver Spring, MD 20910; phone (301) 713-2289; fax (301) 427-2521; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1540.

FOR FURTHER INFORMATION CONTACT: Patrick Opay or Ruth Johnson, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed action is a continuation of Permit No. 1245 documentation of in-water relative abundances, size distributions, sex ratios, genetic contributions, and the health of sea turtles in coastal waters in the southeastern U.S. Up to 350 loggerhead, 50 Kemp's ridley, 10 green, 3 leatherback, and 5 hawksbill sea turtles would be captured annually using trawls. Turtles would be handled, blood sampled, measured, flipper and PIT tagged, photographed and subsequently released. A subsample of animals would have barnacles and keratin removed from their shells, have cloacal samples taken, be laproscopic and ultrasound examined, and have satellite transmitters attached to them. Up to 4 loggerhead, 1 Kemp's ridley, 1 green, 3 leatherback, and 5 hawksbill sea turtles may be accidentally killed during the research. The permit would be issued for 5 years.

Dated: August 5, 2005.
Jennifer Skidmore,
Acting Chief, Permits, Conservation and Education Division, Office of Protected Resources, National Marine Fisheries Service.

[FR Doc. 05-16059 Filed 8-12-05; 8:45 am]

BILLING CODE 3510-22-S